NUCLEAR REGULATORY COMMISSION

[Docket No. 72-26; NRC-2011-0110]

Pacific Gas and Electric Company, Diablo Canyon Independent Spent Fuel Storage Installation; Notice of Issuance of Amendment to Materials License No. SNM-2511

AGENCY: Nuclear Regulatory Commission.

ACTION: Notice of issuance of license amendment.

FOR FURTHER INFORMATION CONTACT: John Goshen, Project Manager, Division of Spent Fuel Storage and Transportation, Office of Nuclear Material Safety and Safeguards, Mail Stop EBB-3D-02M, U.S. Nuclear Regulatory Commission, Washington, DC 20555-0001. Telephone: 301-492-3325; email: john.goshen@nrc.gov.

SUPPLEMENTARY INFORMATION:

I. Introduction

On March 22, 2004, the U.S. Nuclear Regulatory Commission (NRC) issued NRC Materials License No. SNM-2511 to the Pacific Gas and Electric Company (PG&E) for the Diablo Canyon (DC) Independent Spent Fuel Storage Installation (ISFSI), located at the DC Nuclear Power Plant, Unit Nos. 1 and 2 site in San Luis Obispo County, California. The license authorizes PG&E to receive, possess, store, and transfer spent nuclear fuel and associated radioactive materials resulting from the operation of the DC Nuclear Power Plant, Unit Nos. 1 and 2 in an ISFSI at the power plant site for a term of 20 years. The NRC staff published a Notice of Issuance of Environmental Assessment and Finding of No Significant Impact (EA/FONSI) for the approval of DC ISFSI license in the Federal Register on October 30, 2003 (68 FR 61838) in accordance with the National Environmental Policy Act, and in conformance with the applicable requirements of Title 10 of the Code of Federal Regulations (10 CFR) part 51. Additionally, the NRC published a supplement to this EA/FONSI on September 10, 2007 (72 FR 51687), in response to the decision of the United States Court of Appeals for the Ninth Circuit in San Luis Obispo Mothers for Peace v. NRC, 449 F.3d 1016 (9th Cir. 2006), and a related addendum on November 15, 2007 (72 FR 64252).

By letter dated January 31, 2011, as supplemented June 8, July 28, September 15, and November 22, 2011, PG&E submitted license amendment request (LAR) 11-001 to the NRC to amend Materials License No. SNM-2511 for the DC ISFSI in accordance with 10 CFR part 72. PG&E's application requested that the ISFSI Technical Specifications (TS) be revised as follows:

1. TS 1.1, “Definitions,”—revise to reflect the addition of high burnup fuel (HBF) selection criteria and the addition of neutron source assemblies (NSAs), and instrument tube tie rods (ITTRs).

2. TS 2.0, “Approved Contents,”—revise Tables 2.1-1 through 2.1-7, and 2.1-10 to reflect the addition of HBF selection criteria and the addition of NSAs and ITTRs. TS 2.0, “Approved Contents,” Table 2.1-7—revise Fuel Assembly Cooling and Maximum Decay Heat (Uniform Fuel loading) for a MPC-32 to limit the decay heat load to 750 W per assembly for a canister containing HBF.

3. TS 2.0, “Approved Contents,”—revise to add new TS 2.3 and associated Table 2.3-1 to provide alternative calculations for burnup limits for fuel assemblies in a MPC-32 to allow the storage of HBF.

4. TS 3.1.1, “Multi-Purpose Canister (MPC),”—revise to eliminate the vacuum drying option which is not allowed for HBF and to add a reference temperature of 70 °F for the MPC Helium backfill pressure range.

5. TS 3.1.2, “Spent Fuel Storage Cask (SFSC) Heat Removal System,”—revise to allow the HI-STORM Shortened Anchored (100SA) overpack to be considered operable with up to 50 percent vent blockage (although removal of any blockage is still required on discovery).

6. TS 3.1.4, “Supplemental Cooling System,”—added to provide the conditions and criteria for the SCS.

7. TS 4.1.2b, “Design Features Important to Criticality Control,”—revise to change the B4C content in METAMIC to ≤ 33.0 wt%.

8. TS 5.1.3b, “MPC and SFSC Loading, Unloading, and Preparation Program,”—revise to delete the requirement for maintaining the annulus full during vacuum drying and to restore the requirement for maintaining the annulus full during reflood (unloading).

LAR 11-001 also proposes to revise the licensing basis from that documented in the DC ISFSI Final Safety Analysis Report Update (FSARU) to:

9. Upgrade the thermal analysis methodology to a three dimensional (3D) Computational Fluid Dynamics (CFD) model,

10. Remove the assumption of 100% fuel failure coincident with 100% vent blockage,

11. Change of some allowed component temperatures in the thermal evaluation (peak cladding, concrete, overpack metal, transfer cask lid neutron shielding),

12. Reduce the required torque criteria for the MPC lift cleats, and

13. Add a new accident for loss of SCS to the design criteria for the SCS.

In accordance with 10 CFR 72.16, a Notice of Docketing and opportunity to request a hearing was published in the Federal Register on May 20, 2011 (76 FR 29280). On January 19, 2012, the NRC approved and issued Amendment No. 2 to Materials License No. SNM-2511, held by PG&E for the receipt, possession, transfer, and storage of spent fuel at the Diablo Canyon ISFSI. Amendment No. 2 was effective as of the date of issuance. Pursuant to 10 CFR 72.46(d), the NRC is providing notice of the action taken.

Amendment No. 2 complies with the standards and requirements of the Atomic Energy Act of 1954, as amended (the Act), and the NRC's rules and regulations. As required by the Act and the NRC's rules and regulations in 10 CFR chapter I, the NRC has made appropriate findings, which are set forth in Amendment No. 2 Safety Evaluation Report (SER). Also as described in the SER, the NRC determined that issuance of Amendment No. 2 meets the criteria specified in 10 CFR 51.22(c)(11) for a categorical exclusion. Thus, the preparation of an environmental assessment or an environmental impact statement is not required.

II. Further information

The NRC has prepared a SER that documents the staff's review and evaluation of the amendment. In accordance with 10 CFR 2.390 of NRC's “Rules of Practice,” final NRC records and documents related to this action, including the application for amendment and supporting documentation and the SER, are available electronically at the NRC's Library at http://www.nrc.gov/reading-rm/adams.html. From this site, you can access NRC's Agencywide Document Access and Management System (ADAMS), which provides text and image files of NRC's public documents. The ADAMS Accession Numbers for the applicable documents are:

Document | Date | ADAMS accession No.
License Amendment Request | January 31, 2011 | ML110400377
Supplement to License Amendment Request | June 8, 2011 | ML11173A228
Supplement No. 2 to License Amendment Request | July 28, 2011 | ML11216A208
Response to First Request for Additional Information | September 15, 2011 | ML11262A270
Response to Second Request for Additional Information | November 22, 2011 | ML11333A061
License Amendment No. 2 Issuance Package | January 19, 2012 | ML120260361
Safety Evaluation Report | January 19, 2012 | ML120260386

If you do not have access to ADAMS, or if there are problems in accessing the documents located in ADAMS, contact NRC's Public Document Room (PDR) Reference staff at 1-800-397-4209, 301-415-4737, or by email to pdr@nrc.gov.

These documents may also be viewed electronically on the public computers located at NRC's PDR, O1-F21, One White Flint North, 11555 Rockville Pike, Rockville, MD 20852. The PDR reproduction contractor will copy documents, for a fee.

Dated at Rockville, Maryland, this 19th day of January, 2012.
For the Nuclear Regulatory Commission.
Michael D. Waters,
Chief, Licensing Branch, Division of Spent Fuel Storage and Transportation, Office of Nuclear Material Safety and Safeguards.

[FR Doc. 2012-3123 Filed 2-9-12; 8:45 am]

BILLING CODE 7590-01-P